DEPARTMENT OF TRANSPORTATION

Federal Aviation Administration

14 CFR Part 39

[Docket No. FAA-2007-0247; Directorate Identifier 2007-CE-083-AD; Amendment 39-15278; AD 2007-24-12]

RIN 2120-AA64

Airworthiness Directives; Eclipse Aviation Corporation Model EA500 Airplanes

AGENCY: Federal Aviation Administration (FAA), DOT.

ACTION: Final rule; request for comments.

SUMMARY: The FAA is adopting a new airworthiness directive (AD) for certain Eclipse Aviation Corporation Model (Eclipse) EA500 airplanes. This AD requires you to inspect the fuel filler adapters for primer and/or paint in the surround and, if present, remove the primer and/or paint. This AD results from an observation during a factory walk-around that the fuel filler surround was primed instead of being bare metal. We are issuing this AD to inspect and, if necessary, remove any paint and/or primer to restore the fuel filler adapter lightning strike protection. A lightning strike on the filler cap with insulating primer on the surround could result in the strike not dissipating to the surround. This could lead to arcing and ignition of fuel vapor inside the fuel tank.

DATES: This AD becomes effective on November 27, 2007.

On November 27, 2007, the Director of the Federal Register approved the incorporation by reference of certain publications listed in this AD.

We must receive any comments on this AD by January 28, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building, Ground Floor, Room W12-140, 1200 New Jersey Avenue, SE., Washington, DC 20590.

• Hand Delivery: U.S. Department of Transportation, Docket Operations, M-30, West Building, Ground Floor, Room W12-140, 1200 New Jersey Avenue, SE., Washington, DC 20590, between 9 a.m. and 5 p.m., Monday through Friday, except Federal holidays.

To get the service information identified in this AD, contact Eclipse Aviation Corporation, 4100 Aerospace Parkway, Albuquerque, New Mexico 87121; phone (505) 245-7555; fax: (505) 241-8802; email: customercare@EclipseAviation.com.

To view the comments to this AD, go to http://www.regulations.gov. The docket number is FAA-2007-0247; Directorate Identifier 2007-CE-083-AD.

FOR FURTHER INFORMATION CONTACT: Mitchell Soth, Flight Test Engineer, 2601 Meacham Blvd., Fort Worth, Texas 76137; telephone: (817) 222-5104; fax: (817) 222-5960.

SUPPLEMENTARY INFORMATION:

Discussion

The aircraft type certification requires compliance to 14 CFR 23.954, Fuel system lightning protection. During the lightning protection testing of certain Eclipse Model EA500 airplanes, it was determined that the fuel filler surround required exposed bare metal to dissipate arc products when the fuel filler cap is struck by lightning. We were notified by Eclipse that, during a factory walk-around, they observed that the fuel filler surround was primed instead of being bare metal. The affected airplanes are only those with the extended tip tanks (ETT).

A lightning strike on the filler cap with insulating primer on the surround could result in the strike not dissipating to the surround. This could lead to arcing and ignition of fuel vapor inside the fuel tank.

Relevant Service Information

We reviewed Eclipse Aviation Corporation Alert Service Bulletin SB 500-57-007, Rev A, dated October 12, 2007, and Eclipse Aviation Corporation Alert Service Bulletin SB 500-57-007, Rev B, dated October 23, 2007. The service information describes procedures for inspecting the fuel filler fitting surround for primer and/or paint and removing the primer and/or paint if found.

FAA's Determination and Requirements of This AD

We are issuing this AD because we evaluated all the information and determined the unsafe condition described previously is likely to exist or develop on other products of the same type design. This AD requires you to inspect and if necessary restore the fuel filler adapter lightning strike protection by removing any primer and/or paint from the fuel filler adapter surround.

In preparing this rule, we contacted type clubs and aircraft operators to get technical information and information on operational and economic impacts. We did not receive any information through these contacts. If received, we would have included a discussion of any information that may have influenced this action in the rulemaking docket.

FAA's Determination of the Effective Date

An unsafe condition exists that requires the immediate adoption of this AD. The FAA has found that the risk to the flying public justifies waiving notice and comment prior to adoption of this rule, because a lightning strike to the fuel filler cap might not properly dissipate to the surround and could cause arcing and ignition of fuel vapor inside the fuel tank. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2007-0247; Directorate Identifier 2007-CE-083-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2007-24-12 Eclipse Aviation Corporation: Amendment 39-15278; Docket No. FAA-2007-0247; Directorate Identifier 2007-CE-083-AD.

Effective Date

(a) This AD becomes effective on November 27, 2007.

Affected ADs

(b) None.

Applicability

(c) This AD applies to Model EA500 airplanes, serial numbers 000039 through 000062, that are certificated in any category.

Unsafe Condition

(d) This AD results from an observation during a factory walk-around that the fuel filler surround was primed instead of being bare metal. We are issuing this AD to inspect and, if necessary, remove any paint and/or primer to restore the fuel filler adapter lightning strike protection. A lightning strike on the filler cap with insulating primer on the surround could result in the strike not dissipating to the surround. This could lead to arcing and ignition of fuel vapor inside the fuel tank.

Compliance

(e) To address this problem, you must do the following, unless already done:

Actions | Compliance | Procedures
(1) Inspect the right and left fuel filler adapters for application of primer and/or paint | At whichever of the following occurs first: (i) Within 10 hours time-in-service (TIS) after November 27, 2007 (the effective date of this AD) (ii) Within 30 days after November 27, 2007 (the effective date of this AD) | Follow the procedures in Eclipse Aviation Corporation Alert Service Bulletin SB 500-57-007, Rev A, dated October 12, 2007, or Eclipse Aviation Corporation Alert Service Bulletin SB 500-57-007, Rev B, dated October 23, 2007.
(2) Remove any primer and/or paint from the fuel filler adapter surround | Before further flight after the inspection required by paragraph (e)(1) of this AD where primer and/or paint was found on the fuel filler adapter surround | Follow the procedures in Eclipse Aviation Corporation Alert Service Bulletin SB 500-57-007, Rev B, dated October 23, 2007.

Special Flight Permit

(f) Under 14 CFR 39.23, we are limiting the special flight permits for this AD by allowing “Flight in Day Visual Flight Rules (VFR) Only.”

Alternative Methods of Compliance (AMOCs)

(g) The Manager, Fort Worth Airplane Certification Office, FAA, has the authority to approve AMOCs for this AD, if requested using the procedures found in 14 CFR 39.19. Send information to ATTN: Mitchell Soth, Flight Test Engineer, 2601 Meacham Blvd., Fort Worth, Texas 76137; telephone: (817) 222-5104; fax: (817) 222-5960. Before using any approved AMOC on any airplane to which the AMOC applies, notify your appropriate principal inspector (PI) in the FAA Flight Standards District Office (FSDO), or lacking a PI, your local FSDO.

Material Incorporated by Reference

(h) You must use Eclipse Aviation Corporation Alert Service Bulletin SB 500-57-007, Rev A, dated October 12, 2007 or Eclipse Aviation Corporation Alert Service Bulletin SB 500-57-007, Rev B, dated October 23, 2007, to do the actions required by this AD, unless the AD specifies otherwise.

(1) The Director of the Federal Register approved the incorporation by reference of this service information under 5 U.S.C. 552(a) and 1 CFR part 51.

(2) For service information identified in this AD, contact Eclipse Aviation Corporation, 4100 Aerospace Parkway, Albuquerque, New Mexico 87121; phone (505) 245-7555; fax: (505) 241-8802; e-mail: customercare@EclipseAviation.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on November 20, 2007.
Kim Smith,
Manager, Small Airplane Directorate, Aircraft Certification Service.

[FR Doc. E7-23024 Filed 11-26-07; 8:45 am]

BILLING CODE 4910-13-P